SMALL BUSINESS ADMINISTRATION

License No. 09/09-0471]

Pivotal Capital Fund, LP; Surrender of License of Small Business Investment Company

Pursuant to the authority granted to the United States Small Business Administration under Section 309 of the Small Business Investment Act of 1958, as amended, and 13 CFR 107.1900 of the Code of Federal Regulations to function as a small business investment company under the Small Business Investment Company license number 09/09-0471 issued to Pivotal Capital Fund, LP, said license is hereby declared null and void.

Bailey Devries,
Associate Administrator, Office of Investment and Innovation, United States Small Business Administration.

[FR Doc. 2024-01456 Filed 1-24-24; 8:45 am]

BILLING CODE P